ENVIRONMENTAL PROTECTION AGENCY

[FRL OP-OFA-056]

Environmental Impact Statements; Notice of Availability

Responsible Agency: Office of Federal Activities, General Information 202-564-5632 or https://www.epa.gov/nepa.

Weekly receipt of Environmental Impact Statements (EIS)

Filed January 30, 2023 10 a.m. EST Through February 6, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230017, Final Supplement, NRC, WI, NUREG-2183 Supplement 1, Environmental Impact Statement Related to the Operating License for the SHINE Medical Isotope Production Facility—Final Report, Review Period Ends: 03/13/2023, Contact: Lance J Rakovan 301-415-2589.

EIS No. 20230018, Final, EPA, LA, Adoption—Proposed Mid-Barataria Sediment Diversion Project in Plaquemines Parish, Louisiana, Contact: Michael Jansky 214-665-7451.

The Environmental Protection Agency (EPA) has adopted the U.S. Army Corps of Engineers' Final EIS No. 20220137, filed 9/19/2022 with the Environmental Protection Agency. The EPA was a cooperating agency on this project. Therefore, republication of the document is not necessary under Section 1506.3(b)(2) of the CEQ regulations.

EIS No. 20230019, Final, DOI, LA, Adoption—Proposed Mid-Barataria Sediment Diversion Project in Plaquemines Parish, Louisiana, Contact: Mary Josie Blanchard 202-208-3406.

The Department of the Interior (DOI) has adopted the U.S. Army Corps of Engineers' Final EIS No. 20220137, filed 9/19/2022 with the Environmental Protection Agency. The DOI was a cooperating agency on this project. Therefore, republication of the document is not necessary under Section 1506.3(b)(2) of the CEQ regulations.

EIS No. 20230020, Final, USDA, LA, Adoption—Proposed Mid-Barataria Sediment Diversion Project in Plaquemines Parish, Louisiana, Contact: Ronald Howard 601-812-9449.

The United States Department of Agriculture (USDA) has adopted the U.S. Army Corps of Engineers' Final EIS No. 20220137, filed 9/19/2022 with the Environmental Protection Agency. The USDA was a cooperating agency on this project. Therefore, republication of the document is not necessary under Section 1506.3(b)(2) of the CEQ regulations.

EIS No. 20230021, Final, NOAA, LA, Adoption—Proposed Mid-Barataria Sediment Diversion Project in Plaquemines Parish, Louisiana, Contact: Mel Landry 301-427-8711.

The National Oceanic and Atmospheric Administration (NOAA) has adopted the U.S. Army Corps of Engineers' Final EIS No. 20220137, filed 9/19/2022 with the Environmental Protection Agency. The NOAA was a cooperating agency on this project. Therefore, republication of the document is not necessary under Section 1506.3(b)(2) of the CEQ regulations.

EIS No. 20230022, Draft, FERC, TN, Cumberland Project, Comment Period Ends: 03/27/2023, Contact: Office of External Affairs 866-208-3372.

EIS No. 20230023, Final, DOD, AK, Heat and Electrical Upgrades at Fort Wainwright, Alaska, Review Period Ends: 03/13/2023, Contact: Grant Sattler 907-353-6701.

EIS No. 20230024, Draft, USAF, FL, KC-46A—Main Operating Base No. 6 Beddown, Comment Period Ends: 03/27/2023, Contact: Helen Kellogg 210-925-7843.

EIS No. 20230025, Draft, BIA, ID, Nez Perce Tribe Integrated Resource Managment Plan, Comment Period Ends: 04/11/2023, Contact: Tobiah Mogavero 435-210-0509.

EIS No. 20230026, Draft Supplement, TVA, AL, Browns Ferry Nuclear Plant Subsequent License Renewal, Comment Period Ends: 03/27/2023, Contact: J Taylor Johnson 423-751-2732.

Amended Notice

EIS No. 20220185, Draft, NNSA, SC, Surplus Plutonium Disposition Program, Comment Period Ends: 03/16/2023, Contact: Maxcine Maxted 803-952-7434. Revision to FR Notice Published 12/16/2022; Extending the Comment Period from 02/14/2023 to 03/16/2023.

EIS No. 20220191, Draft Supplement, USFS, VA, Mountain Valley Pipeline and Equitrans Expansion Project, Comment Period Ends: 02/21/2023, Contact: Joby Timm, Forest Supervisor 888-603-0261. Revision to FR Notice Published 12/23/2022; Extending the Comment Period from 02/06/2023 to 02/21/2023.

Dated: February 6, 2023.
Cindy S. Barger,
Director, NEPA Compliance Division, Office of Federal Activities.

[FR Doc. 2023-02897 Filed 2-9-23; 8:45 am]

BILLING CODE 6560-50-P